DEPARTMENT OF JUSTICE

Notice of Lodging Proposed Consent Decree

In accordance with Departmental Policy, 28 CFR 50.7, notice is hereby given that a proposed Consent Decree in United States v. Barrett, No. 4:07-CV-128-TSL-LRA, was lodged with the U.S. District Court for the Southern District of Mississippi on August 13, 2010.

The proposed Consent Decree concerns a complaint filed by the United States of America against Gaston Barrett and Central Mississippi Properties, Inc., pursuant to sections 309(b) and (d) of the Clean Water Act, 33 U.S.C. 1319(b) & (d), to obtain injunctive relief and civil penalties against the defendants for the unauthorized discharge of pollutants in Neshoba County, Mississippi, in violation of sections 301(a), 309(d), and 404 of the Clean Water Act, 33 U.S.C. 1311(a), 1319(d), and 1344. The proposed Consent Decree resolves these allegations by requiring the defendants to restore wetlands, to perform mitigation, and to pay a civil penalty.

The Department of Justice will accept written comments relating to this proposed Consent Decree for thirty (30) days from the date of publication of this Notice. Please address comments to Andrew J. Doyle, Trial Attorney, Environmental Defense Section, P.O. Box 23986, Washington, DC 20026-3986, and refer to United States v. Barrett, DJ # 90-5-1-1-17716.

The proposed Consent Decree may be examined at the Clerk's Office, U.S. District Court, 245 East Capitol Street, Jackson, Mississippi 39225-3552, or electronically at https://ecf.mssd.uscourts.gov or http://www.usdoj.gov/enrd/Consent_Decrees.html.

Maureen M. Katz,
Assistant Section Chief, Environment & Natural Resources Division.

[FR Doc. 2010-20513 Filed 8-18-10; 8:45 am]

BILLING CODE P